DEPARTMENT OF COMMERCE

[I.D. 092404C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Dr. Nancy Foster Scholarship Program.

Form Number(s): CD-436, CD-511.

OMB Approval Number: 0648-0432.

Type of Request: Regular submission.

Burden Hours: 1,827.

Number of Respondents: 1,000.

Average Hours Per Response: Five hours for application package; 45 minutes for letter of recommendation; 1.5 hours for annual report; five minutes for No Concurrent Work Statement; 15 minutes for CD-346; five minutes for CD-511; and one hour for biographical sketch and photo.

Needs and Uses: The Dr. Nancy Foster Scholarship Program recognizes outstanding scholarship by providing financial support to graduate students pursuing masters and doctoral degrees in the areas of marine biology, oceanography, and maritime archeology. The applicants must submit information that allows NOAA to make scholarship selections. Those applicants selected to receive scholarships must submit additional information that enables NOAA to arrange funding and track their academic progress.

Affected Public: Individuals or households.

Frequency: Annually.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: September 22, 2004.
Gwellnar Banks,
Management Analyst, Office of the Chief Information Officer.

[FR Doc. 04-21972 Filed 9-29-04; 8:45 am]

BILLING CODE 3510-KA-S